ENVIRONMENTAL PROTECTION AGENCY

[FRL-7955-4]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 2161.01; Region 7 Lead Education and Awareness Project in St. Louis, MO.; was approved 07/31/2005; OMB Number 2020-0029; expires 08/31/2007.

EPA ICR No. 2179.02; Recordkeeping and Periodic Reporting of the Production, Import, Recycling, Transshipment and Feedstock Use of Ozone Depleting Substances (Critical Use Exemption) (Renewal); was approved 08/04/2005; OMB Number 2060-0564; expires 08/31/2008.

EPA ICR No. 1750.04; National Volatile Organic Compound Emission Standards for Architectural Coatings; in 40 CFR part 59, subpart D; was approved 07/31/2005; OMB Number 2060-0393; expires 07/31/2008.

EPA ICR No. 2167.01; Detroit Children's Health Study Health Effects of Environmental Exposure among Children Living in the Detroit, MI area (Renewal); was approved 07/28/2005; OMB Number 2080-0074; expires 07/31/2008.

EPA ICR No. 2066.03; NESHAP for Engine Test Cells/Stands; in 40 CFR part 63, subpart PPPPP; was approved 07/14/2005; OMB Number 2060-0483; expires 07/31/2008.

EPA ICR No. 1974.04; NESHAP for Cellulose Products Manufacturing; in 40 CFR part 63, subpart UUUU (Renewal); was approved 07/14/2005; OMB Number 2060-0488; expires 07/31/2008.

EPA ICR No. 1679.05; NESHAP for Marine Tank Vessel Loading Operations (Renewal); in 40 CFR part 63, subpart Y; was approved 07/12/2005; OMB Number 2060-0289; expires 07/31/2008.

EPA ICR No. 1947.03; NESHAP for Solvent Extraction for Vegetable Oil Production (Renewal); in 40 CFR part 63, subpart GGGG; was approved 07/12/2005; OMB Number 2060-0471; expires 07/31/2008.

EPA ICR No. 2025.03; NESHAP for Friction Materials Manufacturing; in 40 CFR part 63, subpart QQQQQ (Renewal); was approved 07/12/2005; OMB Number 2060-0481; expires 07/31/2008.

EPA ICR No. 2155.01; Willingness to Pay Survey: Phase III Cooling Water Intake Structures; was approved 08/05/2005; OMB Number 2040-0262; expires 06/30/2006.

EPA ICR No. 2142.01; National Survey of Successful Waste Disposal Programs in Rural Areas in the United States; was approved 08/10/2005; OMB Number 2060-0568; expires 12/31/2005.

Short Term Extensions

EPA ICR No. 0328.10; Spill Prevention, Control and Countermeasures (SPCC) Plans; in 40 CFR 112.1-112.7; OMB Number 2050-0021; on 08/03/2005; OMB extended the expiration date through 02/28/2006.

Dated: August 11, 2005.
Oscar Morales,
Director, Collection Strategies Division.

[FR Doc. 05-16477 Filed 8-18-05; 8:45 am]

BILLING CODE 6560-50-P